DEPARTMENT OF AGRICULTURE

Agricultural Marketing Service

[Doc. No. AMS-LPS-16-0023]

Request for an Extension and Revision of a Currently Approved Information Collection for the Seed Service Testing Program

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget (OMB) for an extension and revision of the currently approved information collection for the Seed Service Testing Program.

DATES: Comments received by June 27, 2016.

ADDRESSES: Comments should be submitted electronically at http://www.regulations.gov or to Ernest L. Allen, Director, Seed Regulatory and Testing Division (SRTD), Livestock, Poultry, and Seed Program, AMS, USDA, 801 Summit Crossing Place, Suite C, Gastonia, NC 28054-2193, or by facsimile to (704) 852-4109. All comments should reference docket number AMS-LPS-16-0023 and note the date and page number of this issue in the Federal Register. All comments received will be posted without change, including any personal information provided, online at http://www.regulations.gov and will be made available for public inspection at the above physical address during regular business hours.

FOR FURTHER INFORMATION CONTACT: Ernest L. Allen, SRTD, Livestock, Poultry, and Seed Program, AMS, USDA; Telephone: (704) 810-8871, or Email: Ernest.Allen@ams.usda.gov.

SUPPLEMENTARY INFORMATION:

Title: Seed Service Testing Program.

OMB Number: 0581-0140.

Expiration Date of Approval: August 31, 2016.

Type of Request: Extension and revision of a currently approved information collection.

Abstract: This information collection is necessary to conduct voluntary seed testing on a fee-for-service basis. The Agricultural Marketing Act of 1946, as amended, 7 U.S.C. 1621 et seq., authorizes the Secretary of Agriculture to inspect and certify the quality of agricultural products and collect such fees as are reasonable to cover the cost of service rendered. Regulations for inspection and certification of quality of agricultural and vegetable seeds are contained in 7 CFR part 75.

The purpose of the voluntary program is to promote efficient, orderly marketing of seeds, and assist in the development of new and expanding markets. Under the program, samples of agricultural and vegetable seeds submitted to AMS are tested for factors such as purity and germination at the request of the applicant for the service. In addition, grain samples, submitted at the applicant's request, are examined for the presence of certain weed and crop seed by the Grain Inspection, Packers, and Stockyards Administration. A Federal Seed Analysis Certificate or an ISTA Orange International Seed Lot Certificate is issued giving the test results. Most of the seeds tested under this program are scheduled for export. Many importing countries require a Federal Seed Analysis Certificate on U.S. seed.

The only information collected is information needed to provide the service requested by the applicant. This includes information to identify the seed being tested, the seed treatment (if treated with a pesticide), the tests to be performed, and any other appropriate information required by the applicant to be on the Federal Seed Analysis Certificate or the ISTA Orange International Seed Lot Certificate.

The number of seed companies applying for the seed testing service has decreased from 76 to 55 during the past 3 years due to a decrease in the number of companies exporting seed. The total number of samples received for testing has also decreased. Therefore, the average burden for information collection has decreased for seed companies applying for the service.

The information in this collection is used only by authorized AMS employees to track, test, and report results to the applicant.

Estimate of Burden: Public reporting burden for this collection of information is estimated to average 0.25 hours per response.

Respondents: Applicants for seed testing service.

Estimated Number of Respondents: 55.

Estimated Number of Responses per Respondent: 22.92.

Estimated Total Annual Burden on Respondents: 315.25 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: April 20, 2016.
Elanor Starmer,
Administrator, Agricultural Marketing Service.

[FR Doc. 2016-09617 Filed 4-25-16; 8:45 am]

BILLING CODE 3410-02-P